DEPARTMENT OF THE INTERIOR

Office of the Secretary

25 CFR Ch. I

30 CFR Chs. II and VII

36 CFR Ch. I

43 CFR Subtitle A, Chs. I and II

48 CFR Ch. 14

50 CFR Chs. I and IV

[167D0102DM; DS6CS00000; DLSN00000.00000; DX6CS25]

Semiannual Regulatory Agenda

AGENCY: Office of the Secretary, Interior.

ACTION: Semiannual Regulatory Agenda.

SUMMARY: This notice provides the semiannual agenda of Department of the Interior (Department) rules scheduled for review or development between spring 2024 and spring 2025. The Regulatory Flexibility Act and Executive Order 12866 require publication of the agenda.

ADDRESSES: Unless otherwise indicated, all agency contacts are located at the Department of the Interior, 1849 C Street NW, Washington, DC 20240.

FOR FURTHER INFORMATION CONTACT: Please direct all comments and inquiries about these rules to the appropriate agency contact. Please direct general comments relating to the agenda to the Office of Executive Secretariat and Regulatory Affairs, Department of the Interior, at the address above or at (202) 513-0357.

SUPPLEMENTARY INFORMATION: With this publication, the Department satisfies the requirement of Executive Order 12866 that the Department publish an agenda of rules that it has issued or expects to issue within this time period and of currently effective rules that it has scheduled for retrospective review.

Simultaneously, the Department meets the requirement of the Regulatory Flexibility Act (5 U.S.C. 601 et seq.) to publish an agenda in April and October of each year identifying rules that will have significant economic effects on a substantial number of small entities. The Department has specifically identified in the agenda those rules that will have such effects. The complete Unified Agenda of Regulatory and Deregulatory Actions (Agenda) will be published at www.reginfo.gov, in a format that offers users enhanced ability to obtain information from the Agenda database. Agenda information is also available at www.regulations.gov, the government-wide website for submission of comments on proposed regulations.

In some cases, the Department has withdrawn rules that were placed on previous Agendas for which there has been no publication activity or for which a proposed or interim rule was published. There is no legal significance to the omission of an item from this Agenda. Withdrawal of a rule does not necessarily mean that the Department will not proceed with the rulemaking. Withdrawal allows the Department to assess the action further and determine whether rulemaking is appropriate. Following such an assessment, the Department may determine that any rules listed as withdrawn under this Agenda may be appropriate for promulgation.

E. Michael Abler,
Deputy Director, Executive Secretariat and Regulatory Affairs.

Bureau of Safety and Environmental Enforcement—Final Rule Stage
Sequence No. | Title | Regulation Identifier No.
134 | Outer Continental Shelf Civil Penalties, Surety Bond Requirements When Filing an Appeal | 1014-AA57

Bureau of Safety and Environmental Enforcement—Long-Term Actions
Sequence No. | Title | Regulation Identifier No.
135 | Revisions to Decommissioning Requirements on the OCS | 1014-AA53

United States Fish and Wildlife Service—Proposed Rule Stage
Sequence No. | Title | Regulation Identifier No.
136 | Importation, Exportation and Transportation of Wildlife; Updates to the Regulations | 1018-BF16
137 | Migratory Bird Hunting; 2025-26 Migratory Game Bird Hunting Regulations | 1018-BH65

United States Fish and Wildlife Service—Final Rule Stage
Sequence No. | Title | Regulation Identifier No.
138 | Migratory Bird Hunting; 2024-25 Migratory Game Bird Hunting Regulations | 1018-BG63

National Park Service—Completed Actions
Sequence No. | Title | Regulation Identifier No.
139 | Commercial Visitor Services; Concession Contracts | 1024-AE57

Bureau of Ocean Energy Management—Completed Actions
Sequence No. | Title | Regulation Identifier No.
140 | Risk Management and Financial Assurance for OCS Lease and Grant Obligations | 1010-AE14

DEPARTMENT OF THE INTERIOR (DOI)

Bureau of Safety and Environmental Enforcement (BSEE)

Final Rule Stage

134. Outer Continental Shelf Civil Penalties, Surety Bond Requirements When Filing an Appeal [1014-AA57]

Legal Authority: Outer Continental Shelf Lands Act (OCSLA), 43 U.S.C. 1331 to 1356a

Abstract: This proposed rulemaking would clarify BSEE's existing regulatory authority under 30 CFR 250.1409, which establishes criteria that must be met before a party may proceed with an appeal of a civil penalty pursuant to 30 CFR part 290. Before filing an appeal to the Interior Board of Land Appeals (IBLA), an operator must either submit a surety bond to BSEE's sister agency, BOEM, in the amount of the penalty, or notify BOEM that they want their lease bond to be used as the bond for the penalty amount.

Timetable:

Action | Date | FR Cite
NPRM | 12/13/23 | 88 FR 86285
NPRM Comment Period End | 02/12/24
Final Action | 07/00/24
Final Action Effective | 08/00/24

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA57

DEPARTMENT OF THE INTERIOR (DOI)

Bureau of Safety and Environmental Enforcement (BSEE)

Long-Term Actions

135. Revisions to Decommissioning Requirements on the OCS [1014-AA53]

Legal Authority: Outer Continental Shelf Lands Act, 43 U.S.C. 1331 to 1356a

Abstract: This proposed rule would address issues relating to (1) idle iron by adding a definition of this term to clarify that it applies to idle wells and structures on active leases; (2) abandonment in place of subsea infrastructure by adding regulations addressing when BSEE may approve decommissioning-in-place instead of removal of certain subsea equipment; and (3) other operational considerations.

Timetable:

Action | Date | FR Cite
NPRM | 06/00/25
NPRM Comment Period End | 09/00/25

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA53

DEPARTMENT OF THE INTERIOR (DOI)

United States Fish and Wildlife Service (FWS)

Proposed Rule Stage

136. Importation, Exportation and Transportation of Wildlife; Updates to the Regulations [1018-BF16]

Legal Authority: 16 U.S.C. 33 8(d)-(f); 16 U.S.C. 668; 16 U.S.C. 704; 16 U.S.C. 712; 16 U.S.C. 1382; 16 U.S.C. 1538(d)-(f); 16 U.S.C. 1540(f); 16 U.S.C. 3371 to 3378; 16 U.S.C. 4223 to 4244; 16 U.S.C. 4901 to 4916; 18 U.S.C. 42; 31 U.S.C. 42; 31 U.S.C. 9701; . . .

Abstract: This proposed rule would revise FWS's regulations governing the importation and exportation of wildlife. In this rulemaking, FWS would review all sections of 50 CFR part 14 and provide necessary revisions.

Timetable:

Action | Date | FR Cite
NPRM | 12/00/24

Regulatory Flexibility Analysis Required: Yes.

Agency Contact: Edward Grace, Assistant Director, Office of Law Enforcement, Department of the Interior, United States Fish and Wildlife Service, 5275 Leesburg Pike, MS: LEO, Falls Church, VA 22041-3803, Phone: 703 358-1949, Fax: 703 358-1947, Email: edward_grace@fws.gov.

RIN: 1018-BF16

137. Migratory Bird Hunting; 2025-26 Migratory Game Bird Hunting Regulations [1018-BH65]

Legal Authority: 16 U.S.C. 703 et seq.; 16 U.S.C. 742a-j

Abstract: This rulemaking action would establish annual hunting regulations for certain migratory game birds. FWS annually prescribes the frameworks, or outside limits, for season lengths, bag limits, and areas for migratory game bird hunting. After these frameworks are established, States and Tribes may select season dates, bag limits, and other regulatory options for their hunting seasons. Migratory bird management is a cooperative effort of Federal, State, and Tribal governments.

Timetable:

Action | Date | FR Cite
NPRM | 09/00/24

Regulatory Flexibility Analysis Required: Yes.

Agency Contact: Dr. Eric L. Kershner, Chief, Division of Conservation, Permits, and Regulations, Department of the Interior, United States Fish and Wildlife Service, 5275 Leesburg Pike, MS: MB, Falls Church, VA 22041, Phone: 703 358-2376, Fax: 703 358-2217, Email: eric_kershner@fws.gov.

RIN: 1018-BH65

DEPARTMENT OF THE INTERIOR (DOI)

United States Fish and Wildlife Service (FWS)

Final Rule Stage

138. Migratory Bird Hunting; 2024-25 Migratory Game Bird Hunting Regulations [1018-BG63]

Legal Authority: 16 U.S.C. 703 et seq.; 16 U.S.C. 742a-j

Abstract: This rulemaking action would establish annual hunting regulations for certain migratory game birds. FWS annually prescribes the frameworks, or outside limits, for season lengths, bag limits, and areas for migratory game bird hunting. After these frameworks are established, States and Tribes may select season dates, bag limits, and other regulatory options for their hunting seasons. Migratory bird management is a cooperative effort of Federal, State, and Tribal governments.

Timetable:

Action | Date | FR Cite
NPRM | 02/08/24 | 89 FR 8631
NPRM Comment Period End | 03/11/24
Proposed Frameworks | 05/13/24 | 89 FR 41522
Proposed Frameworks; Comment Period End | 06/12/24
Final Frameworks | 08/00/24

Regulatory Flexibility Analysis Required: Yes.

Agency Contact: Dr. Eric L. Kershner, Chief, Division of Conservation, Permits, and Regulations, Department of the Interior, United States Fish and Wildlife Service, 5275 Leesburg Pike, MS: MB, Falls Church, VA 22041, Phone: 703 358-2376, Fax: 703 358-2217, Email: eric_kershner@fws.gov.

RIN: 1018-BG63

DEPARTMENT OF THE INTERIOR (DOI)

National Park Service (NPS)

Completed Actions

139. Commercial Visitor Services; Concession Contracts [1024-AE57]

Legal Authority: 54 U.S.C. 101926

Abstract: This final rule revises regulations that govern the solicitation, award, and administration of concessions contracts to provide commercial visitor services at National Park System units under the authority granted to the Secretary of the Interior by the Concessions Management Improvement Act of 1998 and the National Park Service Centennial Act. The revisions reduce administrative burdens and expand opportunities for sustainable, high quality, and contemporary concessioner-provided visitor services in park areas.

Timetable:

Action | Date | FR Cite
NPRM | 07/20/20 | 85 FR 43775
NPRM Comment Period End | 09/18/20
Final Rule | 12/29/23 | 88 FR 90098
Final Rule Effective | 01/29/24

Regulatory Flexibility Analysis Required: Yes.

Agency Contact: Kurt M. Rausch, Chief, Contract Management, Department of the Interior, National Park Service, 1849 C Street NW, Washington, DC 20240, Phone: 202 513-7207, Email: kurt_rausch@nps.gov.

RIN: 1024-AE57

DEPARTMENT OF THE INTERIOR (DOI)

Bureau of Ocean Energy Management (BOEM)

Completed Actions

140. Risk Management and Financial Assurance for OCS Lease and Grant Obligations [1010-AE14]

Legal Authority: OCSLA-43 U.S.C. 1331 et seq.

Abstract: This final rule modifies the evaluation criteria for determining whether oil, gas and sulfur lessees, right-of-use and easement grant holders, and pipeline right-of-way grant holders may be required to provide bonds or other financial assurance, above the regulatorily prescribed amounts for base bonds, to ensure compliance with their Outer Continental Shelf obligations.

BOEM held a Government-to-Government consultation with an Indian Tribal Nation during the development of the NPRM and the final rule. BOEM received a range of comments on the NPRM during the public comment period. This final rule addresses feedback received from public comment period and Tribal consultations.

Timetable:

Action | Date | FR Cite
NPRM | 06/29/23 | 88 FR 42136
NPRM Comment Period Extension | 08/25/23 | 88 FR 58173
NPRM Comment Period End | 08/28/23
NPRM Comment Period Extension End | 09/07/23
Final Rule | 04/24/24 | 89 FR 31544
Final Rule Technical Correction | 05/31/24 | 89 FR 47080
Final Rule Effective | 06/29/24

Regulatory Flexibility Analysis Required: Yes.

Agency Contact: Kelley Spence, Program Analyst, Department of the Interior, Bureau of Ocean Energy Management, 1849 C Street NW, Washington, DC 20240, Phone: 948 298-7345, Email: kelley.spence@boem.gov.

RIN: 1010-AE14

[FR Doc. 2024-16458 Filed 8-15-24; 8:45 am]

BILLING CODE 4334-63-P